DEPARTMENT OF VETERANS AFFAIRS

[OMB Control No. 2900-0740]

Agency Information Collection (Authorization To Substitute a Claim of a Deceased Claimant); Activities Under OMB Review

AGENCY: Veterans Benefits Administration, Department of Veterans Affairs.

ACTION: Notice.

SUMMARY: In compliance with the Paperwork Reduction Act (PRA) of 1995 (44 U.S.C. 3501-3521), this notice announces that the Veterans Benefits Administration, Department of Veterans Affairs, will submit the collection of information abstracted below to the Office of Management and Budget (OMB) for review and comment. The PRA submission describes the nature of the information collection and its expected cost and burden; it includes the actual data collection instrument.

DATES: Comments must be submitted on or before October 26, 2012.

ADDRESSES: Submit written comments on the collection of information through www.Regulations.gov or to VA's OMB Desk Officer, Office of Information and Regulatory Affairs, New Executive Office Building, Room 10235, Washington, DC 20503, (202) 395-7316. Please refer to “OMB Control No. 2900-0740” in any correspondence.

FOR FURTHER INFORMATION CONTACT: Crystal Rennie, Enterprise Records Service (005R1B), Department of Veterans Affairs, 810 Vermont Avenue NW., Washington, DC 20420, (202) 632-7479, FAX (202) 632-7583 or email denise.mclamb@va.gov. Please refer to “OMB Control No. 2900-0740.”

SUPPLEMENTARY INFORMATION: Title: Authorization to Substitute a Claim of a Deceased Claimant, VA Form 21-0847.

OMB Control Number: 2900-0740.

Type of Review: Extension of a currently approved collection.

Abstract: VA Form 21-0847 is used to allow claimants to request substitutions for a claimant, who passed away, prior to VA processing a claim to completion. This is only allowed when a claimant dies while a claim or appeal for any benefit under a law administered by the VA is pending. The substitute claimant would be eligible to receive accrued benefits due to a deceased claimant. The substitute claim must be filed no later than one year after the date of the death of the claimant. By law, VA must have a claimant's or beneficiary's written permission (an “authorization”) to be a substitute claimant. The claimant or beneficiary may revoke the authorization at any time, except if VA has already acted based on the permission.

An agency may not conduct or sponsor, and a person is not required to respond to a collection of information unless it displays a currently valid OMB control number. The Federal Register Notice with a 60-day comment period soliciting comments on this collection of information was published on July 19, 2012, at page 42554.

Affected Public: Individuals or households.

Estimated Annual Burden: 1,667.

Estimated Average Burden per Respondent: 5 minutes.

Frequency of Response: On time.

Estimated Number of Respondents: 20,000.

Dated: September 21, 2012.
By direction of the Secretary.
Denise McLamb,
Program Analyst, Enterprise Records Service.

[FR Doc. 2012-23651 Filed 9-25-12; 8:45 am]

BILLING CODE 8320-01-P